DEPARTMENT OF THE INTERIOR

Bureau of Land Management

[WY-060-1320-EL, WYW154432 & WYW174407]

Notice of Availability of the Record of Decision for the Environmental Impact Statement for the Maysdorf Coal Lease-by-Application, Wyoming

AGENCY: Bureau of Land Management, Interior.

ACTION: Notice of availability of Record of Decision.

SUMMARY: In accordance with the National Environmental Policy Act of 1969, the Bureau of Land Management (BLM) announces the availability of the Record of Decision (ROD) for the Maysdorf Coal Lease-by-Application (LBA).

ADDRESSES: The document is available electronically on the following Web site: http://www.blm.gov/wy/st/en/info/NEPA/cfodocs/maysdorf.html. Paper copies of the ROD are also available at the following BLM office locations:

• Bureau of Land Management, Wyoming State Office, 5353 Yellowstone Road, Cheyenne, Wyoming.

• Bureau of Land Management, Casper Field Office, 2987 Prospector Drive, Casper, Wyoming.

FOR FURTHER INFORMATION CONTACT: Mr. Bob Janssen, Wyoming Coal Coordinator, (307) 775-6206 or Ms. Mavis Love, Land Law Examiner (307) 775-6258. Both Mr. Janssen's and Ms. Love's offices are located at the BLM Wyoming State Office, 5353 Yellowstone Road, Cheyenne, Wyoming 82009.

SUPPLEMENTARY INFORMATION: The ROD covered by this Notice of Availability (NOA) is for the Maysdorf Coal Tract and addresses leasing coal administered by the BLM Casper Field Office in Campbell County, Wyoming. The BLM adopts Alternative 3. Under Alternative 3, the Maysdorf coal lease application area, as modified by BLM, would be divided into two separate tracts referred to as the North Maysdorf LBA Tract and the South Maysdorf LBA Tract. The North Maysdorf LBA Tract (WYW154432), as modified by BLM, includes 445.89 acres, more or less, and contains an estimated 54.7 million tons of mineable coal. The South Maysdorf LBA Tract (WYW174407), as modified by BLM, includes 2,900.24 acres, more or less, and contains an estimated 288 million tons of mineable coal. Two competitive coal lease sales will be announced in the Federal Register.

This decision is subject to appeal to the Interior Board of Land Appeals (IBLA) as provided in 43 CFR 4 within thirty (30) days from the date of publication of this NOA in the Federal Register. The ROD contains instructions for filing an appeal with the IBLA.

Alan Rabinoff,
Acting State Director.

[FR Doc. E7-15221 Filed 8-3-07; 8:45 am]

BILLING CODE 4310-22-P